DEPARTMENT OF COMMERCE

International Trade Administration

[C-570-936]

Circular Welded Carbon Quality Steel Line Pipe from the People's Republic of China: Correction to Notice of Amended Final Determination Pursuant to Final Court Decision

AGENCY: Import Administration, International Trade Administration, Department of Commerce.

DATES: Effective Date: April 19, 2010.

FOR FURTHER INFORMATION CONTACT: John Conniff, AD/CVD Operations, Office 3, Import Administration, International Trade Administration, U.S. Department of Commerce, 14th Street and Constitution Avenue NW, Room 4014, Washington, DC 20230; telephone: (202) 482-1009.

SUPPLEMENTARY INFORMATION:

Correction

On March 31, 2010, the Department of Commerce (“the Department”) published a notice of amended final determination pursuant to final court decision for circular welded carbon quality steel line pipe from the People's Republic of China. See Circular Welded Carbon Quality Steel Line Pipe from the People's Republic of China: Notice of Amended Final Determination Pursuant to Final Court Decision, 75 FR 16071 (March 31, 2010) (“Court Amended Final Determination”). Subsequent to the publication of the notice in the Federal Register, we identified an inadvertent error.

The Court Amended Final Determination states that the rate for the Huludao Companies (Huludao Seven Star Group, Huludao Steel Pipe Industrial Co. Ltd., and Huludao Bohai Oil Pipe Industrial Co. Ltd.), the respondent, is 33.00 percent when it should be 33.43 percent. Additionally it states that the All Others Rate is 36.53 percent when it should be 36.74 percent. These were both typographical errors.

This notice is published in accordance with sections 777(i) and 705(d) of the Tariff Act of 1930, as amended.

Dated: April 13, 2010.
Ronald K. Lorentzen,
Deputy Assistant Secretary for Import Administration.

[FR Doc. 2010-8992 Filed 4-16-10; 8:45 am]

BILLING CODE 3510-DS-S